GENERAL SERVICES ADMINISTRATION

[OMB Control No. 3090-0259]

Submission for OMB Review; Comment Request Entitled Market Research Questionnaire

AGENCY: Federal Supply Service, GSA.

ACTION: Notice of a request for an extension to an existing OMB clearance (3090-0259), Market Research Questionnaire.

SUMMARY: Under the provisions of the Paperwork Reduction Act of 1995 (44 U.S.C. Chapter 35), the General Services Administration (GSA) has submitted to the Office of Management and Budget (OMB) a request to review and approve an extension of a currently approved information collection requirement concerning Market Research Questionnaire. A request for public comments was published at 67 FR 7377, February 19, 2002. No comments were received.

Public comments are particularly invited on: Whether this collection of market research information is necessary for the proper performance of GSA procurement, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Comment Due Date: July 7, 2002.

ADDRESSES: Comments regarding this collection of information should be submitted to Jeanette Thornton, GSA Desk Officer, OMB, Room 10236, NEOB, Washington, DC 20503, and a copy to Stephanie Morris, General Service Administration, Acquisition Policy Division, 1800 F Street, NW., Room 4035, Washington, DC 20405 or fax to (202) 501-4067. Please cite OMB Control Number 3090-0259.

FOR FURTHER INFORMATION CONTACT: Charles P. Gallagher, Federal Supply Service, GSA (703) 305-6930.

SUPPLEMENTARY INFORMATION:

A. Purpose

The General Services Administration is requesting that the Office of Management and Budget (OMB) review and approve information collection, 3090-0259, concerning the Market Research Questionnaire. The Market Research Questionnaire is used to gather information that is necessary to develop and/or revise Federal specifications and other purchase descriptions.

B. Annual Reporting Burden

Respondents: 25.

Annual Responses: 25.

Average hours per response: 0.5.

Burden Hours: 12.5.

Obtaining Copies of Proposal: Requester may obtain a copy of the proposal from the General Services Administration, Acquisition Policy Division (MVP), 1800 F Street, NW., Room 4035, Washington, DC 20405, telephone (202) 501-4744. Please cite OMB Control No. 3090-0259, Market Research Questionnaire.

Dated: April 29, 2002.
Michael W. Carleton,
Chief Information Officer (I).

[FR Doc. 02-11224 Filed 5-6-02; 8:45 am]

BILLING CODE 6820-61-M